DEPARTMENT OF JUSTICE

Antitrust Division

United States v. Columbia Broadcasting System, Inc., and Viacom International, Inc., Case No. 72-820-RJK (C.D. Cal.)

Notice is hereby given that Viacom International, Inc. (“Viacom”), has moved to terminate the Final Judgment entered against it by the United States District Court for the Central District of California on January 17, 1973. In a stipulation also filed with the Court, the United States has tentatively agreed not to oppose the motion, but as a matter of policy will not finally consent to the termination of any judgment without providing public notice and an opportunity for public comments to be received and considered.

On April 14, 1972, the United States filed separate actions against CBS, NBC and ABC, the companies that operated the three then-existing national television networks (the “Network Cases”). The Network Cases charged the three networks with restraint of trade, monopolization and attempted monopolization of the market for prime time entertainment programming in violation of Sections 1 and 2 of the Sherman Act.

The syndication operations of CBS had been spun off from CBS to Viacom in 1971 in order to comply with a 1970 FCC rule. Viacom was named as an additional defendant in the action against CBS to insure that any relief obtained against CBS would be effective. The Final Judgment prohibited any Viacom director or officer from also being a director or officer of a broadcast television network, and from owning or controlling more than one percent of the stock of any such network.

Between 1977 and 1980, each of the three networks entered into settlements with the United States (the “Network Decrees”). Among other things, the Network Decrees: (1) Prohibited the three networks from acquiring certain financial interests or proprietary rights in television programs produced by others; (2) limited the amount of programming that each network could produce for its own use; and (3) prohibited the networks from engaging in the domestic syndication of television programs. Following significant changes in the marketplace and the erosion of broadcast television's share of the overall television market, the Network Decrees were modified by the Court in 1993 and have ceased to be operable.

Viacom has filed with the Court a memorandum setting forth the reasons it believes that termination of the Final Judgment would serve the public interest. Copies of Viacom's motion and supporting memorandum, the stipulation containing the United States' tentative consent, and all further papers filed with the Court in connection with the motion will be available for inspection at the Antitrust Documents Group of the Antitrust Division, 325 7th Street, NW., Room 215 North, Liberty Place Building, Washington, DC 20530, and at the Office of the Clerk of the United States District Court for the Central District of California. Copies of these materials may be obtained from the Antitrust Division upon request and payment of the copying fee set by the Department of Justice regulations.

Interested persons may submit comments to the United States regarding the proposed termination of the Final Judgment. Such comments must be received by the Antitrust Division within sixty (60) days and will be filed with the Court. Comments should be addressed to J. Robert Kramer, II, Chief, Litigation II Section, Antitrust Division, U.S. Department of Justice, 1401 H Street, NW., Suite 300, Washington, DC 20530.

Constance K. Robinson,
Director of Operations.

[FR Doc. 02-21492 Filed 8-22-02; 8:45 am]

BILLING CODE 4410-11-M